DEPARTMENT OF AGRICULTURE

Rural Business-Cooperative Service

Amendment to Notice of Funding Availability for the Rural Energy for America Program

AGENCY: Rural Business-Cooperative Service, USDA.

ACTION: Notice.

SUMMARY: The Rural Business-Cooperative Service (Agency) published a notice in the Federal Register of March 29, 2013, (78 FR 19183) announcing the acceptance of applications for funds available under the Rural Energy for America Program (REAP) for Fiscal Year 2013. The Consolidated and Further Continuing Appropriations Act, 2013, provides additional funding for REAP. This Notice announces the availability of approximately $65.2 million in Fiscal Year 2013 budget authority to fund REAP activities, which will support approximately $31 million in grant program level and approximately $142.3 million in guaranteed loan program level, which includes approximately $13 million of discretionary funding. This Notice also extends the application period to June 14, 2013, for both Fiscal Year 2013 applicants and applicants who submitted Fiscal Year 2012 applications and wish to submit written requests to have their Fiscal Year 2012 applications considered for Fiscal Year 2013 funds.

FOR FURTHER INFORMATION CONTACT: For information about this Notice, please contact Lisa Noty, USDA Rural Development, Energy Division, 255 U.S. Highway 69, Suite 5, Garner, IA 50438. Telephone: (641) 923-3666 extension 109. Email: lisa.noty@wdc.usda.gov.

SUPPLEMENTARY INFORMATION: The Agency is amending the Available Funds paragraph under Award Information section in the Notice of Funding Availability for the Rural Energy for America Program published on March 29, 2013, (78 FR 19183). The Consolidated and Further Continuing Appropriations Act, 2013, has provided additional funding for REAP.

The March 29, 2013, Notice identified up to $20.8 million available to the REAP program, with up to $10.4 million in grant program level and up to $43.4 million in guaranteed loan program level. With the additional funding now available, for Fiscal Year 2013, up to $65.2 million of budget authority is available to the REAP program, an increase of approximately $44.4 million. The REAP grant program level increases approximately $20.6 million, from $10.4 million to up to $31 million, with grant program levels for feasibility studies increasing from $250,000 to up to $350,000 and for grants of $20,000 or less increasing from $4.1 million to up to $12.4 million. The guaranteed loan program level for Fiscal Year 2013 increases approximately $99 million, from $43.4 million to $142.3 million, which includes approximately $13 million in discretionary funds.

To reflect these changes in program level funding, the Agency is amending the funding levels and dollars available for grants and guaranteed loans for renewable energy system (RES) and energy efficiency improvement (EEI) projects and for grants for RES feasibility studies.

The Agency is also amending, for a second time, the application deadline for three sets of applications: (1) Renewable energy system (RES) and energy efficiency improvement (EEI) grants, (2) RES and EEI grant and loan combinations and (3) RES feasibility study grants. The Agency extended the original deadline for these applications from April 30, 2013, to May 31, 2013, in a May 8, 2013, Notice (78 FR 26747). The May 8, 2013, Notice, however, inadvertently did not extend the deadline for these same types of applications for Fiscal Year 2012 applicants who wish to be considered for Fiscal Year 2013 funding.

With this Notice, the Agency is extending the application deadline for the aforementioned grants to compete for Fiscal Year 2013 funds to June 14, 2013. This extension applies to both Fiscal Year 2013 applicants and to Fiscal Year 2012 applicants who wish to submit a written request to have their Fiscal Year 2012 applications considered for Fiscal Year 2013 funds.

The application dates in this Notice supersede those identified in the May 8, 2013, Notice. This Notice makes no other changes to the March 29, 2013, Notice.

The following Summary of Changes apply to the March 29, 2013, Notice.

Summary of Changes

1. In the third column on page 19183, the last sentence in the SUMMARY section is revised to read as follows:

The Notice also announces the availability of up to $65.2 million of Fiscal Year 2013 budget authority to fund these REAP activities, which will support up to $31 million in grant program level and up to $142.3 million in guaranteed loan program level.

2. In the third column on page 19183, the second paragraph under the DATES section is revised to read as follows:

For renewable energy system and energy efficiency improvement grant applications and combination grant and guaranteed loan applications, no later than 4:30 p.m. local time June 14, 2013.

3. In the third column on page 19183, the fourth paragraph under the DATES section is revised to read as follows:

For renewable energy system feasibility study applications, no later than 4:30 p.m. local time June 14, 2013.

4. In the first column on page 19186, the first sentence of the first paragraph under the Award Information section, Available Funds, is revised to read as follows:

The amount of funds available for renewable energy systems and energy efficiency improvements in Fiscal Year 2013 will be up to $173 million.

5. In the second column on page 19186, the first sentence of the second paragraph under the Award Information section, Available Funds, is revised to read as follows:

The amount of grant funds available for renewable energy system feasibility studies in Fiscal Year 2013 will be up to $350,000.

6. In the second column on page 19186, the first sentence of the third paragraph under the Award Information section, Available Funds, is revised to read as follows:

In order to ensure that small projects have a fair opportunity to compete for the funding and are consistent with the priorities set forth in the statute, the Agency will set-aside up to $12.4 million to fund grants of $20,000 or less.

7. In the first column on page 19189, the first sentence of subparagraph (1)(iv), is revised to read as follows:

Written requests to consider Fiscal Year 2012 applications for Fiscal Year 2013 funds may be submitted at any time during Fiscal Year 2013, up to and including 4:30 p.m. local time on June 14, 2013.

Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to: USDA, Assistant Secretary for Civil Rights, Office of the Assistant Secretary for Civil Rights, 1400 Independence Avenue SW., Stop 9410, Washington, DC 20250-9410 or call toll-free at (866) 632-9992 (English) or (800) 877-8339 (TDD) or (866) 377-8642 (English Federal-relay) or (800) 845-6136 (Spanish Federal-relay). USDA is an equal opportunity provider and employer.

Dated: June 4, 2013.
Lillian E. Salerno,
Acting Administrator, Rural Business-Cooperative Service.

[FR Doc. 2013-13731 Filed 6-10-13; 8:45 am]

BILLING CODE 3410-XY-P